DEPARTMENT OF LABOR

Bureau of International Labor Affairs, Office of Trade and Labor Affairs: Questions and Answers for Solicitation for Cooperative Agreement Application (SGA) 07-02, Strengthening Labor Compliance in the Agricultural Sector in Central America and the Dominican Republic

AGENCY: Bureau of International Labor Affairs, Office of Trade and Labor Affairs.

ACTION: Notice.

SUMMARY: In response to the subject solicitation, inquiries have been received regarding the requirements of the solicitation. This notice publishes the inquiries and the responses to the inquiries. Due to the pending closing date of February 23, 2007 no further questions will be entertained.

FOR FURTHER INFORMATION CONTACT: Lisa Harvey, Department of Labor, Procurement Services Center, Room S-4307, 200 Constitution Ave, NW., Washington DC, 20210, Telephone (202) 693-4592, e-mail: Harvey-lisa@dol.gov.

Q: I am aware that this proposal concerns all C.A.F.T.A. countries but I am wondering if there are priority countries concerning this specific grant. My question is whether or not it is possible to submit a proposal for just one of the C.A.F.T.A countries (such as Honduras), or perhaps just 3 or 4 of the C.A.F.T.A. countries, or does the grant require a regional proposal?

A: The project must undertake activities in all countries within the lifetime of the grant, beginning at a minimum the first year in El Salvador and Nicaragua. The applicants experience may be in only one or more of the countries, but the proposed activities must eventually roll out to all the countries and will be judged on the merits of how it plans to do this. Specifically, the SGA states: Applicants should submit proposals that are regional in scope and demonstrate the organization's capabilities to implement a project in accordance with the Statement of Work and the selection criteria. Proposals must provide for activities in all countries, and begin the first year at a minimum in El Salvador and Nicaragua. Applicants will not be penalized for lacking previous experience working on regional projects. For example, organizations with experience in only one country will be judged based on the success they achieved in that country and their proposal for working successfully throughout the rest of the targeted region. USDOL encourages applicants to be creative in proposing innovative and cost-effective interventions that will produce a demonstrable and sustainable impact.

Q: Would DOL be interested in receiving a proposal that focuses on DOL's stated objectives but as related to migrant workers? Such a proposal/project could potentially compliment other proposals?

a. Related question to that, given that migrant populations are more significant in some Central American countries than others, could IOM propose activities based on the countries with significant populations, rather than in all the stated countries?

b. And finally, if DOL would be interested in migrant focused proposal, would they prefer we submit a joint proposal with another organization that could take on all the other non-migrant workers?

A: Please ensure that any proposals submitted respond to the objectives outlined in the SGA, which do not specify migrant worker rights.

Q. The solicitation asks that labor law compliance is improved in the DR, Nicaragua, and either Guatemala or Honduras. Is there a preference one way or the other on Guatemala or Honduras? Would DOL like an explanation for why one country is chosen over the other?

A. DOL does not have a preference between either country. Regarding your question as to whether DOL needs an explanation as to why one country was chosen over another, the Applicant would be expected to demonstrate “the extent to which the application sets forth a clear and supportable course of action to improve labor law compliance” in the particular countries included in their proposal.

Q. The Award Information explains that the duration of the project funded by this solicitation is up to four years. Does DOL place additional weight on proposals that are for the full 4 years or are projects that run for less time (2 or 3 years) considered on an equal playing field as those that propose 4 years? Obviously we would need to weight the amount of programming that can get done in 3 countries over a considerable amount of time with the amount of funding allocated.

A. The Applicant will be judged on the merits of their proposed strategy to achieve sustainable results. The SGA states “Applicants will be evaluated on the clear identification and description of the specific strategy(s) the applicant proposes to use, and the effectiveness and attainability of project objectives by the end of the grant period”.

Q. The RFA reads “an applicant must demonstrate a country presence, independently or through a relationship with another organization(s) with country presence, which gives it the ability to initiate program activities upon award of the Cooperative Agreement”. (said organization) currently has a country office in Honduras and has worked in Nicaragua and the DR in the past. I read that to mean that we would need to identify local partners that would be working with (said organization) on implementation in each country and they would be prepared and ready to begin implementation upon reception of the award. Is this an accurate reading or would (said organization) need to have some sort of office open in each country prior to the award?

A. (Said organization) would not necessarily need to have an office open in each country prior to the award, however it would have to demonstrate country presence “independently or through a relationship with another organization(s) with country presence, which gives it the ability to initiate program activities upon award of the Cooperative Agreement.”

Q. From what I understand, DOL requires that our agreements with local organizations be in the form of contracts. Is this an accurate representation of DOL requirements everywhere? From our work in (country X), local NGOs would not have the capacity to operate under a traditional contract mechanism in that they do not have the capital to advance funding for work, but would instead require a sub-award to implement a project. Would this be acceptable?

A: The SGA consistently uses the terms “subaward” which can be either be a sub-contract or a sub-grant.

Signed this 12th day of February 2007.
Lisa Harvey,
Grant Officer.

[FR Doc. E7-2740 Filed 2-15-07; 8:45 am]

BILLING CODE 4510-28-P